DEPARTMENT OF COMMERCE

Submission for OMB Review; Comment Request

The Department of Commerce will submit to the Office of Management and Budget (OMB) for clearance the following proposal for collection of information under the provisions of the Paperwork Reduction Act (44 U.S.C. Chapter 35).

Agency: Office of the Secretary, Office of Civil Rights.

Title: Complaint of Employment Discrimination Used by Permanent Employees and Applicants for Employment at DOC and Complaint of Employment Discrimination for the Decennial Census.

OMB Control Number: 0690-0015.

Form Number(s): CD-498 and CD-498A.

Type of Request: Regular submission.

Burden Hours: 350.

Number of Respondents: 700.

Average Time Per Response: 30 minutes.

Needs and Uses: The Equal Employment Opportunity Commission (EEOC) regulations at 29 CFR 1614.106 requires that a person alleging discrimination treatment, based on race, color, religion, sex, national origin, age, disability, and/or reprisal for participation in equal employment opportunity activity, by a federal agency must submit a signed statement that is sufficiently precise to identify the general actions or practices that form the basis of the complaint. The proposed forms are used to collect the required information. The complaint form used by permanent employees and applicants for employment will be part of a regular complaint process. The Decennial Census complaint form, used only during a decennial census, is expected to be used until the end of 2011.

Affected Public: Individuals or households.

Frequency: On occasion.

Respondent's Obligation: Voluntary.

OMB Desk Officer: David Rostker (202) 395-3897.

Copies of the above information collection proposal can be obtained by calling or writing Diana Hynek, Departmental Paperwork Clearance Officer, (202) 482-0266, Department of Commerce, Room 6625, 14th and Constitution Avenue, NW., Washington, DC 20230 (or via e-mail at dHynek@doc.gov).

Written comments and recommendations for the proposed information collection should be sent to David Rostker, OMB Desk Officer, fax number (202) 395-7258 or via e-mail at David_Rostker@omb.eop.gov.

Dated: April 10, 2008.
Gwellnar Banks,
Management Analyst, Office of the Chief Information Officer.

[FR Doc. E8-8008 Filed 4-14-08; 8:45 am]

BILLING CODE 3510-BP-P